SUSQUEHANNA RIVER BASIN COMMISSION

Commission Meeting

AGENCY: Susquehanna River Basin Commission.

ACTION: Notice.

SUMMARY: The Susquehanna River Basin Commission will hold its regular business meeting on December 5, 2014, in Annapolis, Maryland. Details concerning the matters to be addressed at the business meeting are contained in the Supplementary Information section of this notice.

DATES: December 5, 2014, at 9:00 a.m.

ADDRESSES: Lowe House Office Building, House of Delegates, Appropriation Hearing Room (Room #120), 6 Bladen Street, Annapolis, Md. 21401. (The recommended parking and transportation option is to park at the Navy-Marine Corps Memorial Stadium and take the Annapolis Transit Trolley Shuttle from there—for all available parking options, see http://www.downtownannapolis.org/_pages/transport/tr_parking.htm.)

FOR FURTHER INFORMATION CONTACT: Jason E. Oyler, Regulatory Counsel, telephone: (717) 238-0423, ext. 1312; fax: (717) 238-2436.

SUPPLEMENTARY INFORMATION: The business meeting will include actions or presentations on the following items: (1) Informational presentation of interest to the Lower Susquehanna Subbasin area; (2) resolution concerning FY-2016 federal funding of the Susquehanna Flood Forecast and Warning System and National Streamflow Information Program; (3) rulemaking action to clarify the water uses involved in hydrocarbon development that are subject to the consumptive use regulations, as implemented by the Approval By Rule program; (4) resolution concerning delegation of authority; (5) ratification/approval of contracts/grants; (6) regulatory compliance matters for Lion Brewery, LHP Management, and Southwestern Energy Company; (7) transfer of approval (Docket No. 20081222) from Sunbury Generation LP to Hummel Station LLC; and (8) Regulatory Program projects.

The rulemaking item listed for Commission action was the subject of a public hearing conducted by the Commission on November 6, 2014, and identified in the notice for such hearing, which was published in 79 FR 57850, September 26, 2014. Projects listed for Commission action are those that were the subject of a public hearing conducted by the Commission on November 6, 2014, and identified in the notice for such hearing, which was published in 79 FR 61683, October 14, 2014.

Opportunity to Appear and Comment

Interested parties are invited to attend the business meeting and encouraged to review the Commission's Public Meeting Rules of Conduct, which are posted on the Commission's Web site, www.srbc.net. As identified in the public hearing notices referenced above, written comments on the rulemaking item and Regulatory Program projects that were the subject of public hearings, and are listed for action at the business meeting, are subject to a comment deadline of November 17, 2014. Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before November 26, 2014, to be considered.

Authority: Pub. L. 91-575, 84 Stat. 1509 et seq., 18 CFR Parts 806, 807, and 808.

Dated: October 31, 2014.
Stephanie L. Richardson,
Secretary to the Commission.

[FR Doc. 2014-26594 Filed 11-7-14; 8:45 am]

BILLING CODE 7040-01-P